DEPARTMENT OF ENERGY

Federal Energy Regulatory Commission

Combined Notice of Filings, #1

October 03, 2008.

Take notice that the Commission received the following electric corporate filings:

Docket Numbers: EC02-91-003, EL02-105-003.

Applicants: UBS AG.

Description: Request for Clarification of UBS AG.

Filed Date: 06/30/2008.

Accession Number: 20080630-5158.

Comment Date: 5 p.m. Eastern Time on Tuesday, October 14, 2008.

Take notice that the Commission received the following electric rate filings:

Docket Numbers: ER08-1522-000.

Applicants: WG Energy, LLC.

Description: WG Energy, LLC submits petition for acceptance of initial tariff, waivers and blanket authority and requests acceptance of FERC Electric Tariff, Original Volume 1.

Filed Date: 09/30/2008.

Accession Number: 20081003-0101.

Comment Date: 5 p.m. Eastern Time on Tuesday, October 21, 2008.

Docket Numbers: ER08-1542-000.

Applicants: U.S. Gas and Electric, Inc.

Description: U.S. Gas and Electric, Inc. submits a motion to withdraw filing.

Filed Date: 10/02/2008.

Accession Number: 20081003-0219.

Comment Date: 5 p.m. Eastern Time on Thursday, October 23, 2008.

Docket Numbers: ER08-1584-001.

Applicants: Black Hills Power, Inc.

Description: Black Hills Power, Inc. submits a supplement to their September 29th filing to submit affidavits from Alan C. Heintz and William E. Avera verifying their respective testimonies.

Filed Date: 10/01/2008.

Accession Number: 20081003-0048.

Comment Date: 5 p.m. Eastern Time on Wednesday, October 22, 2008.

Docket Numbers: ER09-1-000.

Applicants: Majestic Wind Power LLC.

Description: Majestic Wind Power LLC requesting that the FERC accept for filing Applicant's FERC Electric Tariff, Original Volume 1 etc.

Filed Date: 10/01/2008.

Accession Number: 20081003-0104.

Comment Date: 5 p.m. Eastern Time on Wednesday, October 22, 2008.

Docket Numbers: ER09-2-000.

Applicants: Butler Ridge, LLC.

Description: Butler Ridge, LLC requests FERC accept for filing their FERC Electric Tariff, Original Volume 1 etc.

Filed Date: 10/01/2008.

Accession Number: 20081003-0105.

Comment Date: 5 p.m. Eastern Time on Wednesday, October 22, 2008.

Docket Numbers: ER09-3-000.

Applicants: Wessington Wind I LLC.

Description: Wessington Wind I LLC submits an application for FERC Electric Tariff, Original Volume No. 1 etc.

Filed Date: 10/01/2008.

Accession Number: 20081003-0102.

Comment Date: 5 p.m. Eastern Time on Wednesday, October 22, 2008.

Docket Numbers: ER09-4-000.

Applicants: Krayn Wind LLC.

Description: Petition of Krayn Wind LLC for a Order Accepting Market-Based Rate Tariff for Filing and Granting Waivers and Blanket Approvals, effective 11/1/08.

Filed Date: 10/01/2008.

Accession Number: 20081003-0103.

Comment Date: 5 p.m. Eastern Time on Wednesday, October 22, 2008.

Docket Numbers: ER09-6-000.

Applicants: Wisconsin Power and Light Company.

Description: Wisconsin Power and Light Co submits proposed additions to their book depreciation rates to reflect new wind electric generation production plant.

Filed Date: 10/01/2008.

Accession Number: 20081003-0106.

Comment Date: 5 p.m. Eastern Time on Wednesday, October 22, 2008.

Docket Numbers: ER09-7-000.

Applicants: Southwest Power Pool, Inc.

Description: Southwest Power Pool, Inc submits two executed Service Agreements for Resale, Reassignment or Transfer etc.

Filed Date: 10/01/2008.

Accession Number: 20081003-0107.

Comment Date: 5 p.m. Eastern Time on Wednesday, October 22, 2008.

Docket Numbers: ER09-8-000.

Applicants: Southern Company Services, Inc.

Description: Alabama Power Co et al submit an Informational Filing in order to update the cost components under their Open Access Transmission Tariff (FERC Electric Tariff, Fourth Revised Volume 5).

Filed Date: 10/01/2008.

Accession Number: 20081003-0108.

Comment Date: 5 p.m. Eastern Time on Wednesday, October 22, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-24246 Filed 10-10-08; 8:45 am]

BILLING CODE 6717-01-P